DEPARTMENT OF HOMELAND SECURITY

Coast Guard

33 CFR Part 100

[Docket No. USCG-2025-0214]

Safety Zone; Greater Bath Foundation Fireworks Display, Bath Creek, Bath, NC

AGENCY: Coast Guard, DHS.

ACTION: Notification of enforcement of regulation.

SUMMARY: The Coast Guard will enforce special local regulations for the Greater Bath Foundation Fireworks Display, Bath Creek, Bath, NC on June 28, 2025, to provide for the safety of life on navigable waterways during this event. Our regulation for marine events within the Fifth Coast Guard District identifies the regulated area for this event in Bath, NC. During the enforcement periods, the operator of any vessel in the regulated area must comply with directions from the Patrol Commander or any Official Patrol displaying a Coast Guard ensign.

DATES: The regulations in 33 CFR 165.506 will be enforced for the Bath Creek, Bath, NC, Safety Zone identified in Table 4 to § 165.506, Item number 14, from 9 p.m. to 9:30 p.m. on June 28, 2025.

FOR FURTHER INFORMATION CONTACT: If you have questions about this notification of enforcement call or email LCDR Carl E. Hendrickson, Waterways Management Division Chief, U.S. Coast Guard; 571-610-2601, email carl.e.hendrickson@uscg.mil.

SUPPLEMENTARY INFORMATION: The Coast Guard will enforce special local regulations in 33 CFR 165.506 for the Greater Bath Foundation Fireworks Display on Bath Creek, Bath, NC from 9 p.m. to 9:30 p.m. on June 28, 2025, to provide for the safety of life on navigable waterways during this event. Our regulation for marine events within the Fifth Coast Guard District identifies the regulated area as the waters on Bath Creek within a 300-yard radius of approximate position 35°28′05″ N, 076°48′56″ W, Bath, NC. During the enforcement periods, the operator of any vessel in the regulated area must comply with directions from the Patrol Commander or any Official Patrol displaying a Coast Guard ensign.

In addition to this notification of enforcement in the Federal Register, the Coast Guard plans to provide notification of this enforcement period via marine information broadcasts.

T.J. List,
Captain, U.S. Coast Guard, Captain of the Port Sector North Carolina.

[FR Doc. 2025-05536 Filed 3-31-25; 8:45 am]

BILLING CODE 9110-04-P